DEPARTMENT OF HOUSING AND URBAN DEVELOPMENT

[Docket No. FR-5023-N-01]

Universities Rebuilding America Partnerships—Community Design Program

AGENCY: Office of Policy Development and Research, HUD.

ACTION: Notice of Funding Availability (NOFA).

Overview Information

A. Federal Agency Name: Department of Housing and Urban Development, Office of Policy Development and Research, Office of University Partnerships.

B. Funding Opportunity Title: Universities Rebuilding America Partnerships—Community Design program.

C. Announcement Type: Initial announcement.

D. Funding Opportunity Numbers: The Federal Register number for this Notice of Funding Availability (NOFA) is FR-5023-N-01. The OMB Approval number for this program is pending.

E. Catalog of Federal Domestic Assistance (CFDA) Number: The CFDA number for this program has not yet been assigned.

F. Dates: The application submission date is December 1, 2005.

G. Additional Overview Content Information:

1. Purpose of the Program: The Universities Rebuilding America Partnerships (URAP)—Community Design program provides funds to schools of architecture, urban planning and design, or construction at accredited two- and four-year colleges and universities to establish and operate partnerships with and for communities affected by Hurricanes Katrina or Rita (or both).

2. Award Information: Approximately $2 million in recaptured Urban Development Action Grant (UDAG) program funds will be made available for this program. The maximum amount an applicant can request for award is $300,000 for a two-year (24-month) grant performance period.

3. Eligible Applicants: Public or private nonprofit institutions of higher education granting two- or four-year degrees in architecture, urban planning and design, or construction that are accredited by a national or regional accrediting agency and recognized by the U.S. Department of Education are eligible to apply for funding under the program. A consortium of eligible institutions may also apply for funding under this program, as long as one institution is designated the lead applicant. Institutions that were previous Office of University Partnerships (OUP) grant recipients are eligible to apply for these funds.

Full Text of Announcement

I. Funding Opportunity Description

A. Purpose

The purpose of the Universities Rebuilding America Partnerships (URAP)—Community Design program is to provide funds to schools of architecture, urban planning and design, or construction at accredited two- and four-year colleges and universities to establish and operate partnerships with and for communities affected by Hurricanes Katrina or Rita (or both) to:

(1) Develop long-range neighborhood designs and plans for local communities that address both reconstruction and future growth needs within a municipality or established neighborhood(s) within a larger municipality; or

(2) Develop architectural design assessment and rehabilitation/reconstruction planning for housing and community amenities damaged or eliminated by the hurricanes to address resettlement needs.

B. Authority

This program is authorized under Section 107(b)(5) of the Housing and Community Development Act of 1974 and its implementing regulations found at 24 CFR 570.411.

II. Award Information

A. Award Amount

Approximately $2 million in recaptured Urban Development Action Grant (UDAG) funds will be made available for this program. The maximum amount an applicant can request for award is $300,000 for a two-year (24-month) grant performance period. HUD will not make awards of less than $100,000.

B. Additional Information

Applicants may apply for only one grant to address one of the categories described in III.C.1.

III. Eligibility Information

A. Eligible Applicants

Public or private nonprofit institutions of higher education granting two- and four-year degrees in architecture, urban planning and design, or construction that are accredited by a national or regional accrediting agency and recognized by the U.S. Department of Education are eligible to apply for funding under this program. A consortium of eligible institutions may also apply for funding under this program, as long as one institution is designated the lead applicant. Institutions that were previous OUP grant recipients are eligible to apply for these funds.

B. Cost Sharing or Matching

None required.

C. Other

All activities must be primarily for the benefit of low- and moderate-income individuals (as described at 24 CFR 570.208).

1. Eligible Activities

a. Neighborhood Design and Planning for Reconstruction Activities. Eligible activities in this category include, but are not limited to, the following:

(1) Making use of visual simulation, Geographic Information Systems, and other computer modeling tools in the planning process.

(2) Preparing computer models that can simulate growth, market, and investment demands as a tool for community planning and development decision-making.

(3) Partnering with economists and market analysts to determine market demands for resettlement and growth, and their effect on housing and other needs.

(4) Conducting symposia to do outreach with and to educate local officials and residents.

(5) Working with legal and regulatory authorities to resolve legal and regulatory issues that might limit housing resettlement, development, or growth options for the area.

(6) Meeting and entering into agreements with local officials and community groups to establish priorities for plan implementation.

(7) Conducting focus groups, design charettes or other decision-making activities that involve communities in providing input and responses to proposed designs and plans.

b. Housing Design and Planning for Reconstruction Activities. Eligible activities for this category of URAP awards include, but are not limited to, the following:

(1) Researching and identifying housing rehabilitation, resettlement, reconstruction, and construction needs for one or more target communities.

(2) Identifying the range of housing markets within a community utilizing both pre- and post-Hurricane demographic trends, including market needs of different income groups, as well as diverse populations such as the elderly, persons with disabilities, younger families with children, empty nesters, racial and ethnic minorities, and persons who are homeless.

(3) Identifying relevant technologies that show promise for improving the durability, affordability, and accessibility of housing, including but not limited to advanced technologies and building systems that have been identified through such sources as the PATH program (Partnership for Advancing Technology in Housing), Energy Star and other sources (See www. pathnet.org for further information on PATH's technology inventory, and www.energystar.gov for information on Energy Star).

(4) Developing housing rehabilitation strategies and housing reconstruction designs, as well as construction plans that demonstrate innovative technologies, energy efficiency, accessibility, green building techniques, and/or other features of innovative design.

(5) Preparing schematic designs of these houses for review by a panel of construction and design experts, such as builders, developers, and local architects.

(6) Preparing cost analyses of these rehabilitation, reconstruction, and construction designs that illustrate that they are affordable and suitable for one or more market segments in the local community.

(7) Conducting extensive focus groups, design charettes, or other decision-making activities that engage residents and community leaders in providing input and responses to proposed designs and plans. This may be done in a method that is sensitive to the potential geographic dispersal of community residents.

(8) Preparing final designs and construction specifications, including, where appropriate, the use of industrialized housing systems.

(9) Identifying the site or sites for rehabilitation, reconstruction, and construction for submission to local officials and potential non-profit and private developers and builders.

(10) Working with local HUD offices, other government agencies, and private institutions (such as private foundations and lending institutions), nonprofit and private sector developers to identify sources of financing for rehabilitation and reconstruction of houses and other community structures.

(11) Identifying regulatory barriers, including zoning restrictions, building codes, and permitting or inspection standards, which inhibit the use of new technologies or construction methods; assisting communities to eliminate or reduce excessive, unnecessary, or duplicative regulations; or to eliminate processes or policies that restrict the development, construction, or rehabilitation, or add to the cost of affordable housing.

(12) Implementing an information dissemination program for builders, investors, and civic leaders that could include exhibits of completed rehabilitation and reconstruction plans and designs in suitable community locations, along with symposia, community workshops, or other activities.

(13) Providing continuing architectural services during the construction of the completed design by a nonprofit or for-profit developer.

c. Both Grant Categories. In addition to eligible activities in each grant category described above, the following are eligible activities for both grant categories:

(1) Incorporating relevant housing design and planning topics in the curriculum of architecture and planning schools, by offering design and planning courses and studios on relevant topics, such as affordable housing, housing economics, real estate development, accessible design, energy efficient housing, and/or metropolitan growth, as well as extensive service learning components in existing coursework.

(2) Leases for local office space in which to house the program, under the following conditions:

(a) The lease must be for existing facilities not requiring rehabilitation or construction;

(b) No repairs or renovations of the property may be undertaken with program funds; and

(c) Properties in the Coastal Barrier Resource System designated under the Coastal Barrier Resources Act (16 U.S.C. 3501) cannot be leased with Federal funds.

2. Audit Requirements

Applicants must ensure that their most current A-133 audit is on file at the Federal Audit Clearinghouse. (Applicants are not required to submit a copy of the audit with the application.) Grantees that expend $500,000 or more in Federal financial assistance in a single year (this can be program year or fiscal year) must be audited in accordance with OMB requirements as established in 24 CFR part 84. Additional information regarding this requirement can be accessed at the following Web site: http://harvester.census.gov/sac.

3. Threshold Requirements

All applicants must comply with the threshold requirements as defined in the General Section of the FY2005 SuperNOFA (70 FR 13576, March 21, 2005) and the requirements listed below to be evaluated, rated, and ranked. Applications that do not meet these requirements will be considered ineligible for funding and will be disqualified:

a. An applicant must meet the eligibility requirements as defined in Section III.A. Eligible Applicants.

b. Only one application can be submitted per institution. If multiple applications are submitted, all will be disqualified.

c. An applicant must receive a minimum score of 75 points to be considered for funding.

d. An applicant must have a DUNS number to receive HUD grant funds. (The General Section of the FY 2005 SuperNOFA provides information regarding the DUNS requirement.)

e. Applicants may be part of only one consortium or submit only one application; otherwise, all of the applicant's applications will be disqualified. HUD will hold the applicant responsible for ensuring that neither the applicant nor any part of their institution, including specific faculty, participates in more than one application.

4. Program Requirements

In addition to the requirements listed in Section III.C of the General Section, applicants must meet the following program requirements specific to the URAP Community Design Program awards:

a. Employ the research and outreach resources of the institution of higher education to solve specific problems identified by the communities affected by Hurricanes Katrina or Rita (or both) and served by the program funds;

b. Establish activities in areas identified in the application as the communities to be served;

c. Coordinate activities in communities to be served by the program funds;

d. Act as a clearinghouse for dissemination of information;

e. Develop instructional materials and provide training for local community leaders, when appropriate; and

f. Exchange information with other URAP-funded efforts.

g. Applicants must have an identified partner within the communities affected by Hurricanes Katrina or Rita (or both), neighborhood, municipality or metropolitan area. Applicants must obtain a written agreement with the local entity to receive funding under this program. Examples of potential partners are State and local governments; a quasi-government agency such as a development corporation; public housing authority; local or national nonprofit organizations, if national organization must have a local affiliate; financial institutions; foundations; faith-based organizations, if national must have a local affiliate; institutions of higher education; and other community-based organizations.

IV. Application and Submission Information

A. Addresses To Request Application Package

Applicants may submit either a paper or electronic application. When submitting an electronic application, applicants may download the instructions to the application found on the Grants.gov Web site at http://www.Grants.gov./Apply. The instructions contain the General Section and Program Section of the published NOFA, as well as forms that you must complete and attach as a ZIP file to your application submission. If you have difficulty accessing the information, you may call the Grants.gov Support Desk toll-free at (800) 518-GRANTS or e-mail your questions to Support@Grants.gov. The Support Desk staff will assist you in accessing the information. Please remember that you must complete the five-step registration process in order to submit an application utilizing Grants.gov. Your registration allows you to electronically sign the application and enables Grants.gov to authenticate that the person signing the application has the legal authority to submit the application on behalf of the applicant. Please see the General Section for information regarding the registration process or ask for registration information from the Grants.gov Support Desk. Please be aware that the registration process is a separate process from requesting e-mail notification of funding opportunities or downloading the application and should be done as soon as you download the application from the Grants.gov Web site. If you are not sure if you are already registered, the Grants.gov Support Desk can verify that for you.

A paper application package must be submitted to the following address: University Partnerships Clearinghouse, c/o Danya International, 8737 Colesville Road, Suite 1200, Silver Spring, MD 20910. When submitting an application package, please include the following information on the outside of the envelope:

a. Office of University Partnerships;

b. Universities Rebuilding America Partnerships (URAP)—Community Design program (CDP);

c. Applicant's name and mailing address (including zip code); and

d. Applicant's telephone number (including area code).

A complete paper application package must include an original signed application, three copies, one computer disk of the application (in Word 6.0 or higher), and required forms.

B. Content and Form of Application Submission

1. Forms

The following forms are required for submission. Copies of these forms are included in Appendix A of the General Section. The electronic version of the NOFA contains all forms required for submission.

a. Application for Federal Assistance (SF-424);

b. Survey on Ensuring Equal Opportunity for Applicants (SF-424 Supplement);

c. Grant Application Detailed Budget (HUD-424-CB);

d. Disclosure of Lobbying Activities (SF-LLL);

e. Americas' Affordable Communities Initiative (HUD-27300);

f. Applicant/Recipient Disclosure/Update Report (HUD-2880);

g. Program Logic Model (HUD-96010); and

h. Facsmille Transmittal Cover Page (HUD-96011). This form must be used as part of the electronic application to transmit third-party documents and other information as described in the General Section as part of your electronic application submittal (if applicable). Applicants are advised to download the application package and complete the SF-424 first, as it will pre-populate the Transmittal Cover page. The Transmittal Cover page will contain a unique identifier embedded in the page that will help HUD associate your faxed materials to your application. Please download the cover page and then make multiple copies to provide to any of the entities responsible for submitting faxed materials to HUD on your behalf. Please be sure to use the Facsimile Transmittal Cover Page as the cover page to any documents faxed in response to this NOFA. HUD will not accept entire applications submitted by facsimile.

2. Certifications and Assurances

Please read the General Section for detailed information on all Certifications and Assurances. All applications submitted through Grants.gov constitute an acknowledgement and agreement to all required certifications and assurances. Please include in your application each item listed below. Applicants submitting paper copy applications should submit the application in the following order:

a. SF-424, Application for Federal Assistance. Please remember the following:

(1) Include the name, title, address, telephone number, facsimile number, and e-mail address of the designated contact. This is the person who will receive the reviewers' comments; therefore, please ensure the accuracy of the information;

(2) The Employer Identification/Tax ID;

(3) The DUNS number;

(4) The Catalog of Federal Domestic Assistance number for this program has not yet been assigned;

(5) The project's proposed start date and completion date. For the purpose of this application, the program start date should be January 1, 2006; and

(6) The signature of the Authorized Organization Representative (AOR):

(i) Applicants submitting electronic applications. The signature of the AOR is the individual who has been authenticated by the credential provider to submit applications via Grants.gov. The AOR must be able to make a binding legal agreement with HUD. See the General Section for instructions and requirements for registration with Grants.gov.

(ii) Applicants submitting paper applications. The signature of the Chief Executive Officer of the institution or his/her assigned designee is the individual who has the authority to make a binding legal agreement with HUD.

b. Application Checklist. Applicants should use the checklist to ensure that they have all the elements required in their application submission. Applicants submitting an electronic application do not have to submit the checklist in their application. The checklist can be found in the NOFA (See Attachment A).

c. Abstract. Applicants must include no more than a one-page summary of the proposed project. Please include the following:

(1) A clear description of the proposed project activities, the designated disaster area, and target population that will be assisted;

(2) A statement that the institution is an eligible institution because it is a two- or four-year fully accredited institution; the name of the accrediting agency; and an assurance that the accrediting agency is recognized by the U.S. Department of Education;

(3) The designated contact person, including phone number, facsimile number, and e-mail address (this is the person who will receive the reviewers' comments; therefore, please ensure the accuracy of the information);

(4) University's name, department, mailing address, telephone number, facsimile number, and e-mail address; and

(5) The principal investigator, if different from the designated contact person, for the project, including phone number, facsimile number, and e-mail address.

d. Narrative statement addressing the Rating Factors. HUD will use the narrative response to the “Rating Factors” to evaluate, rate, and rank applications. The narrative statement is the main source of information. Applicants are advised to review each factor carefully for program-specific requirements. The response to each factor should be concise and contain only information relevant to the factor, but detailed enough to address each factor fully. Focus on how well the proposal responds to each of the factors. In factors where there are subfactors, each subfactor must be presented separately, with the short title of the subfactor presented. Make sure to address each subfactor and provide sufficient information about every element of the subfactor. The narrative section of an application must not exceed 15 pages, double spaced, in a Times Roman 12 point font (excluding forms, budget narrative, commitment letters, memoranda of understanding, agreements, and abstracts). Each page of the narrative must include the applicant's name and must be numbered. Please note that although submitting pages in excess of the page limit will not disqualify an applicant, HUD will not consider the information on any excess pages. This exclusion may result in a lower score or failure to meet a threshold requirement, resulting in ineligibility.

e. Budget. The budget submission must include the following form:

(1) HUD-424-CB, “Grant Application Detailed Budget.” This budget form shows the total budget by year and by line item for the program activities to be carried out with the proposed HUD grant. Each year of the program should be presented separately. Applicants must also submit this form to reflect the total cost for the entire grant performance period (Grand Total).

Make sure that the amount shown on the SF-424, the HUD-424-CB, and all other required program forms is consistent and the budget totals are correct. Remember to check addition in totaling the categories on all forms so that all items are included in the total. If there is an inconsistency between any of the budget forms required, the HUD-424-CB will be used. All budget forms must be fully completed. If an application is selected for award, the applicant may be required to provide greater specificity to the budget during grant agreement negotiations.

(2) Budget Justification. A narrative must be submitted that explains how the applicant arrived at the cost estimates for any line item, including match items, over $5,000. The proposed cost estimates should be both reasonable for the work to be performed and consistent with rates established for the level of expertise required to perform the work proposed. When an applicant proposes to use a consultant, the applicant must indicate whether there is a formal agreement or written procurement policy. For each consultant, please provide the name, if known, hourly or daily rate, and the estimated time on the project. For equipment, applicants must provide a list by type and cost for each item and explain how it will be used.

(3) Indirect costs. Indirect costs, if applicable, are allowable based on an established approved indirect cost rate. Applicants should include a copy of their indirect cost rate agreement with their application. Please refer to Section IV.F of the General Section for instructions on how these documents are to be submitted to HUD using the electronic submission process. Applicants who are selected for funding that do not have an approved indirect cost rate agreement (established by the appropriate Federal agency, Certified Public Accountant, or auditor) will be required to submit an indirect cost proposal to the cognizant Federal agency to establish a rate. In such cases, HUD will issue an award with a provisional rate and enter into an agreement to have one established.

f. Appendix. All letters of commitment and other required forms should be placed in this section. Applicants applying as a Consortium must include a memorandum of understanding or agreement signed by each of Chief Executive Officers of the institutions involved. The document must describe all the members of the Consortium, outline each institution's roles and responsibilities, and describe how much funding each institution will receive from the grant. For applicants submitting electronic applications, please refer to Section IV.F of the General Section for instructions on how third-party documents are to be submitted to HUD using the electronic submission process. An applicant SHOULD NOT submit general support letters or resumes or other back-up materials. If this information is included, it will not be considered during the review process. The additional items will also slow the transmission of your application.

C. Submission Dates and Times

An electronic application package must be received electronically by the Grants.gov portal no later than 11:59:59 p.m. Eastern time on or before December 1, 2005. Applications may be submitted in advance of the submission date. Electronic faxes using the Facsimile Transmittal (Form HUD-96011) cover sheet contained in the electronic application may be submitted prior to the application submission date and must be received no later than 11:59:59 p.m. Eastern time on the application submission date. Please see Section IV.F of the General Section for electronic application submission instructions and timely receipt requirements.

A paper application package must be postmarked on or before 12 midnight on the application due date and received by the Office of University Partnerships Clearinghouse within three (3) calendar days of the application due date. Applications should be sent using DHL, Falcon Carrier, Federal Express (FedEx), United Parcel Services (UPS), or the United States Postal Services (USPS), as access to the clearinghouse by other delivery services is not guaranteed. All applicants must obtain and save a delivery service receipt or certificate of mailing to indicate the application was submitted for delivery on or before the application due date. Hand deliveries will not be accepted.

D. Intergovernmental Review

This program is excluded from an Intergovernmental Review.

E. Funding Restrictions

1. Activities such as, but not limited to, the following are ineligible for funding:

a. Any type of capital costs for construction, rehabilitation, or other physical development.

b. Routine operations and day-to-day administration of institutions of higher education, local governments, or neighborhood groups.

c. Payment of court fines, judgments or fees imposed as a result of a court case, or a settlement of a court case.

2. Funding may only be provided to applicants that meet the standards for eligible applicants in Section III.A.

F. Other Submission Requirements

1. Application Submission and Receipt Procedure. Please read the General Section carefully and completely for the submission and receipt procedures for all applications because failure to comply may disqualify your application.

2. Paper applications will be accepted.

V. Application Review Information

A. Criteria

1. Rating Factor 1: Capacity of the Applicant and Relevant Organizational Experience (25 Points)

This factor addresses the extent to which an applicant has the organizational resources necessary to successfully implement the proposed activities in a timely manner. In rating this factor, HUD will consider the extent to which the proposal demonstrates the knowledge and experience of the overall proposed project director and staff, including the day-to-day program manager, consultants, and contractors in planning and managing the kind of program for which funding is being requested. Experience will be judged in terms of recent, relevant, and successful knowledge and skills of the staff to undertake eligible program activities. HUD will consider experience within the last 5 years to be recent; experience pertaining to the specific activities being proposed to be relevant; and experience producing specific accomplishments to be successful.

Applicants should include information on the commitment of project staff time to the project. In addition, applicants must provide position titles and qualifications of persons to carry out the proposed activities, including academic background, training, and relevant publications of project staff.

Applicants must provide information that reflects whether they have sufficient personnel, if they will be able to retain qualified experts or professionals to begin the proposed project immediately, and to perform proposed activities in a timely and effective fashion.

Applicants may submit attachments totaling no more than 15 pages over and above the narrative statement that consists of copies of plans, drawings, photographs, award announcements, or journal articles that illustrate previous projects, both for project staff and/or representative studio design projects completed by students that illustrate the type of design and plans anticipated to be carried out as part of the proposed activities. Photographs must be submitted as a JPEG file. Drawings, plans, or articles must be submitted as PDF files. HUD is only able to read files that are formatted in Microsoft Office, Word, and Excel.

2. Rating Factor 2: Need/Extent of the Problem (10 Points)

This factor addresses the extent to which there is a need for the activities the applicant proposes to undertake in response to this NOFA. An indication of urgency of meeting the need to participate in the target area is not necessary, as this has already been identified for the entire region impacted by Hurricane Katrina or Rita. On this factor, the proposal will be evaluated on the extent to which it documents an assessment of the need for the proposed activities.

3. Rating Factor 3: Soundness of Approach (55 Points)

This factor addresses the quality and cost-effectiveness of the proposed work plan. There must be a clear relationship among the proposed activities, community needs, and the purpose of the funding to receive points for this factor. The factor will be evaluated based on the extent to which the proposed work plan will:

a. (25 Points) Specific Services and/or Activities. The work plan must identify the services or activities, major tasks, milestones, and timelines for the activity category proposed. In reviewing this subfactor, HUD will consider the extent to which the applicant:

(1) Identifies which activity category as discussed in III.C.1 of this NOFA they will focus on;

(2) Describes each proposed activity to successfully implement and complete the proposed activities;

(3) Identifies tasks and time frames necessary to accomplish the proposed activities;

(4) Describes the measurable objectives to be accomplished, including short- and long-term objectives to be achieved as a result of the proposed activities; the tangible and measurable impact the activities will have on the community in the target hurricane disaster area or a population in particular; and the relationship of the proposed activities to other ongoing or proposed efforts to improve the economic, social, or living environment in the impact area; and

(5) Identifies who will be responsible for the proposed activities and how the architecture, urban planning and design, or construction school will be involved (where appropriate in partnership with other disciplines, departments, and administrative offices).

b. (5 Points) Involving the communities to be served in a partnership for the planning and implementation of the proposed activities. In reviewing this subfactor, HUD will look at the extent to which the applicant:

(1) Involves local citizens directly in the decision-making and design processes;

(2) Identifies a partner within the Hurricane-impacted community, neighborhood, municipality, or metropolitan area. Applicants must obtain a written agreement with the local entity to receive funding under this program. Examples of potential partners are state and local governments; a quasi-government agency such as a development corporation; public housing authority; local or national nonprofit organizations, if national must have a local affiliate; financial institutions; foundations; faith-based, if national must have a local affiliate; institutions of higher education; and other community-based organizations.

c. (6 Points) Helping to solve or to address an urgent problem as identified in Rating Factor 2 and will achieve the purposes of the proposed activities. In reviewing this subfactor, HUD will look at the extent to which the activities proposed are responsive to pressing and urgent needs, as identified in the documents described in Rating Factor 2.

d. (4 Points) Work will yield innovative strategies or “best practices” that can be replicated and disseminated to other organizations, including nonprofit organizations, state and local governments and other communities impacted by the hurricanes. In reviewing this subfactor, HUD will assess the applicant's demonstrated ability to disseminate results to other universities and communities.

e. (5 Points) Results in supporting the planning and design functions and activities of the institution. In rating this subfactor, HUD will evaluate the extent to which the URAP activities will benefit students (because they are part of the professional training programs at the institution rather than just volunteer activities) and support the institution's commitment to faculty and staff to continue to work in URAP communities and the institution's local communities and neighborhoods or replicate successes in other neighborhoods.

f. (5 points) Involvement of students in course work. In rating this subfactor, HUD will look at the extent to which URAP activities are incorporated or addressed in student course work, including design and planning studios. This should include students' developing an understanding of design and planning issues associated with the project. Please describe the proposed relationship between student work and the final plans or housing designs.

g. (5 Points) Commitment to the effort. This subfactor addresses the applicant's ability to identify/secure additional resources that will aid in project implementation. HUD is looking for proposed plans to be adopted and resources allocated from the community to support the plan/development.

Governmental entities, public or private nonprofit organizations, for-profit private organizations, or other entities willing to establish partnerships with the institution may provide resources. In order to receive points under this subfactor, applicants must submit letters of commitment that outline the services/resources committed, how the services/resources will be utilized, and the involvement of the entity in the program.

4. Rating Factor 4: Achieving Results and Program Evaluation (10 Points)

This factor reflects HUD's goal to embrace high standards of management and accountability. It measures the applicant's commitment to assess their performance to achieve the program's proposed objectives and goals. Applicants are required to develop an effective, quantifiable, outcome-oriented evaluation plan for measuring performance and determining that objectives and goals have been achieved. The Logic Model is a summary of the narrative statements presented in Factors 1-3. Therefore, the information submitted on the Logic Model should be consistent with the information contained in the narrative statements, but does not have to be as detailed.

“Outcomes” are benefits accruing to institutions of higher education and/or communities during or after participation in the URAP—Community Design program. Applicants must clearly identify the outcomes to be measured and achieved. Examples of outcomes are increased business start-up in the target community by a certain percentage, or increased family financial stability (e.g., increased assets to families and communities through the development of incubators).

In addition, applicants must establish interim benchmarks and outputs that lead to the ultimate achievement of outcomes. “Outputs” are the direct products of the program's activities. Examples of outputs are the number of new businesses developed, the number of students involved in service learning activities, and the number of new courses an institution developed that focus on community outreach activities, the number of newly formed partnerships that aid in community capacity building. Outputs should produce outcomes for the program. At a minimum, an applicant must address the following activities in the evaluation plan:

a. Specific time-phased short- and long-term measurable outputs to be accomplished.

b. Measurable outcomes the grant will have on the community in general and the target area or population.

c. The impact the grant will have on the long-term commitment of the university to the faculty and students to provide opportunities to continue this type of work.

d. The impact the grant will have on assisting the university in obtaining additional resources to continue this type of work at the end of the grant performance period.

This information must be placed under this section on a HUD-96010 Program Outcome Logic Model form. Applicants may submit as many copies of this form as required. It will not be included in the page count requirement. A narrative is not required. However, if a narrative is provided, those pages will be included in the page count. Additional information on this form and how to use it can be found in the General Section.

B. Review and Selection Process

1. Application Selection Process

Two types of reviews will be conducted:

a. A threshold review to determine an applicant's basic eligibility; and

b. A technical review for all applications that pass the threshold review to rate and rank the application based on the “Rating Factors” listed in Section V.A. Only those applications that pass the threshold review will receive a technical review and be rated and ranked.

2. Rating Panels

To review and rate applications, HUD may establish panels which may include experts or consultants not currently employed by HUD.

3. Ranking

HUD will fund applications in rank order until all available program funds are awarded. In order to be funded, an applicant must receive a minimum score of 75 points out of a possible 100 points. HUD reserves the right to reduce the amount of funding requested in order to fund as many highly ranked applications as possible. Additionally, if funds remain after funding the highest ranked applications, HUD may fund part of the next highest-ranking application. If an applicant turns down the award offer, HUD will make the same determination for the next highest-ranking application.

4. Correction to Deficient Applications

The General Section provides the procedures for correction to deficient applications.

VI. Award Administration Information

A. Award Notice

After all selections have been made, HUD will notify all winning applications in writing. HUD may require winning applicants to participate in additional negotiations before receiving an official award. For further discussion on this matter, please refer to the General Section.

B. Administrative and National Policy Requirements

Applicants may meet any of the National Policy Requirements listed in Section VI.B of the General Section.

1. Debriefing

The General Section provides the procedures for requesting a debriefing. All requests for debriefings must be made in writing and submitted ninety (90) days after the awards have been announced to: Kinnard Wright, Office of University Partnerships, Robert C. Weaver Federal Building, 451 Seventh Street, SW., Room 8106, Washington, DC 20410-6000. Applicants may also write to Mr. Wright via e-mail at Kinnard_D._Wright@hud.gov.

2. Administrative

Grants awarded under this NOFA will be governed by the provisions of 24 CFR part 84 (Grants and Agreements with Institutions of Higher Education, Hospitals and Other Non-Profit Organizations), A-21 (Cost Principles for Educational Institutions), and A-133 (Audits of States, Local Governments, and Non-Profit Organizations). Applicants can access the OMB circulars at the White House Web site at: http://www.whitehouse.gov/omb/circulars/index.html.

3. OMB Circulars and Government-Wide Regulations Applicable to Financial Assistance Programs

The General Section provides further discussion.

4. Code of Conduct

See the General Section for further discussion.

5. Recovered Materials

The General Section provides further discussion.

6. Environmental Requirements

In accordance with 24 CFR 50.19(b) of HUD regulations, activities assisted under this NOFA are categorically excluded from the requirements of the National Environmental Policy Act and are not subject to environmental review under related laws and authorities.

C. Reporting

All grant recipients under this NOFA are required to submit semi-annual progress reports. The progress reports shall consist of two components, a narrative that must reflect the activities undertaken during the reporting period and a financial report, as well as a cumulative summary of costs incurred during the reporting period.

For each reporting period, as part of the required report to HUD, grant recipients must include a completed Logic Model (HUD-96010), which identifies output and outcome achievements.

VII. Agency Contacts

Applicants may contact Kinnard Wright at (202) 708-3061, extension 7495, or Susan Brunson at (202) 708-3061, extension 3852. Persons with speech or hearing impairments may call the Federal Information Relay Service (TTY) at (800) 877-8339. Except for the “800” number, these numbers are not toll-free. Applicants may also reach Mr. Wright via e-mail at Kinnard_D._Wright@hud.gov, and/or Ms. Brunson at Susan_S._Brunson@hud.gov.

VIII. Other Information

A. Paperwork Reduction Act

The information collection requirements contained in this document have been approved by the Office of Management and Budget (OMB) under the Paperwork Reduction Act of 1995 (44 U.S.C. 3501-3520) and assigned OMB control number is pending. In accordance with the Paperwork Reduction Act, HUD may not conduct or sponsor, and a person is not required to respond to, a collection of information unless the collection displays a currently valid OMB control number. Public reporting burden for the collection of information is estimated to average 144 hours per annum per respondent for the application and grant administration. This includes the time for collecting, reviewing, and reporting the data for the application, quarterly, semi-annual, and final reports. The information will be used for grantee selection and monitoring the administration of funds. Response to this request for information is required in order to receive the benefits to be derived.

B. Modification of the Definition of Institution of Higher Learning

For this URAP—Community Design program NOFA, HUD is modifying the definition of Institution of Higher Learning provided for in 24 CFR 570.411(b). Although HUD generally publishes regulatory changes for comment before issuing the regulation for effect, HUD may issue a regulatory change when good cause allows the Department to omit advance notice and comment, in accordance with HUD's rules at 24 CFR part 10. The good cause requirement is satisfied when prior public procedure is “impractical, unnecessary, or contrary to the public interest” (see 24 CFR 10.1). Because of the widespread devastation caused by Hurricanes Katrina and Rita and the urgency to provide assistance to persons affected by these natural disasters, HUD has determined that it would be contrary to the public interest to delay the effectiveness of this regulatory change in order to solicit prior public comment. Therefore, for grants awarded pursuant to this NOFA, colleges or universities granting 2-year degrees and accredited by a national or regional accrediting agency recognized by the U.S. Department of Education will be considered eligible applicants. The modification is limited to grants awarded under this NOFA and does not extend to any other program or grant.

C. Environmental Impacts

This NOFA provides funding under, and does not alter the environmental requirements of, 24 CFR 570.411. Accordingly, under 24 CFR 50.19(c)(5), this NOFA is categorically excluded from environmental review under the National Environmental Policy Act of 1969 (42 U.S.C. 4321) (NEPA). Activities under this NOFA are subject to the environmental review provisions set out at 24 CFR 570.411(n). However, as indicated in Sec. VI of this NOFA, activities assisted under this NOFA are categorically excluded from the requirements of NEPA and are not subject to environmental review under related laws and authorities.

Dated: October 24, 2005.
Darlene F. Williams,
Assistant Secretary for Policy Development and Research.

BILLING CODE 4210-62-P

[FR Doc. 05-21790 Filed 10-31-05; 8:45 am]

BILLING CODE 4210-62-C